DEPARTMENT OF COMMERCE

International Trade Administration

[A-570-077, A-533-881, A-122-863, A-484-803, A-580-897, A-489-833]

Large Diameter Welded Pipe From the People's Republic of China, India, Canada, Greece, the Republic of Korea, and the Republic of Türkiye: Final Results of the Expedited First Sunset Reviews of the Antidumping Duty Orders

AGENCY: Enforcement and Compliance, International Trade Administration, Department of Commerce.

SUMMARY: As a result of these expedited sunset reviews, the U.S. Department of Commerce (Commerce) finds that revocation of the antidumping duty (AD) orders on large diameter welded pipe (welded pipe) from the People's Republic of China (China), India, Canada, Greece, the Republic of Korea (Korea), and the Republic of Türkiye (Türkiye) would likely to lead to continuation or recurrence of dumping at the levels indicated in the “Final Results of Sunset Reviews” section of this notice.

DATES: Applicable June 7, 2024.

FOR FURTHER INFORMATION CONTACT: Whitley Herndon, AD/CVD Operations, Office IX, Enforcement and Compliance, International Trade Administration, U.S. Department of Commerce, 1401 Constitution Avenue NW, Washington, DC 20230; telephone: (202) 482-6274.

SUPPLEMENTARY INFORMATION:

Background

On February 1, 2024, Commerce published the notice of initiation of the first sunset review of the AD orders on welded pipe from China, India, Canada, Greece, Korea, and Türkiye pursuant to section 751(c) of the Tariff Act of 1930, as amended (the Act).¹

¹ See Initiation of Five-Year (Sunset) Reviews, 88 FR 6499 (February 1, 2024) (Initiation Notice).

On February 16, 2024, the American Line Pipe Producers Association (ALPPA), a domestic interested party, notified Commerce of its intent to participate within the 15-day deadline specified in 19 CFR 351.218(d)(1)(i).² ALPPA claimed interested party status under section 771(9)(C) of the Act as producers of a domestic like product in the United States.

² See APPLA's Letters, “Large Diameter Welded Carbon and Alloy Steel Line and Structural Pipe from the People's Republic of China: Notice of Intent to Participate in Sunset Review;” “Large Diameter Welded Carbon and Alloy Steel Line and Structural Pipe from India: Notice of Intent to Participate in Sunset Review;” “Large Diameter Welded Carbon and Alloy Steel Line and Structural Pipe from Canada: Notice of Intent to Participate in Sunset Review;” “Large Diameter Welded Carbon and Alloy Steel Line and Structural Pipe from Greece: Notice of Intent to Participate in Sunset Review;” “Large Diameter Welded Carbon and Alloy Steel Line and Structural Pipe from Korea: Notice of Intent to Participate in Sunset Review;” and “Large Diameter Welded Carbon and Alloy Steel Line and Structural Pipe from Türkiye: Notice of Intent to Participate in Sunset Review,” each dated February 16, 2024.

On March 4, 2024, Commerce received adequate substantive responses from ALPPA within the 30-day period specified in 19 CFR 351.218(d)(3)(i).³ Commerce did not receive a substantive response from any government or respondent interested parties with respect to the orders covered by this sunset review. On February 21, 2024, Commerce notified the U.S. International Trade Commission that it did not receive substantive responses from any respondent interested parties.⁴ As a result, pursuant to section 751(c)(3)(8) of the Act and 19 CFR 351.218(e)(1)(ii)(C)(2), Commerce conducted an expedited (120-day) sunset review of these orders.

³ See APPLA's Letters, “Large Diameter Welded Carbon and Alloy Steel Line and Structural Pipe from the People's Republic of China: Substantive Response to Notice of Initiation;” “Large Diameter Welded Carbon and Alloy Steel Line and Structural Pipe from India: Substantive Response to Notice of Initiation;” “Large Diameter Welded Carbon and Alloy Steel Line and Structural Pipe from Canada: Substantive Response to Notice of Initiation;” “Large Diameter Welded Carbon and Alloy Steel Line and Structural Pipe from Greece: Substantive Response to Notice of Initiation;” “Large Diameter Welded Carbon and Alloy Steel Line and Structural Pipe from Korea: Substantive Response to Notice of Initiation;” and “Large Diameter Welded Carbon and Alloy Steel Line and Structural Pipe from Turkey: Substantive Response to Notice of Initiation,” each dated March 4, 2024.

⁴ See Commerce's Letter, “Sunset Reviews Initiated on February 1, 2024,” dated February 21, 2024.

Scope of the Orders

The products covered by these orders are welded pipe from China, India, Canada, Greece, Korea, and Türkiye. For all full description of the scope of each of the orders, see the Issues and Decision Memorandum.⁵

⁵ See Memorandum, “Decision Memorandum for the Final Results of the Expedited First Sunset Review of the Antidumping Duty Order on Large Diameter Welded Pipe from the People's Republic of China, India, Canada, Greece, the Republic of Korea, and the Republic of Türkiye,” dated concurrently with, and hereby adopted by, this notice (Issues and Decision Memorandum).

Analysis of Comments Received

A complete discussion of all issues raised in these sunset reviews is provided in the accompanying Issues and Decision Memorandum.⁶ A list of the issues discussed in the Issues and Decision Memorandum is included as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed at https://access.trade.gov/public/FRNoticesListLayout.aspx.

⁶ Id.

Final Results of Sunset Reviews

Pursuant to sections 751(c)(1) and 752(c)(1) and (3) of the Act, Commerce determines that revocation of these orders would likely lead to the continuation or recurrence of dumping and that the magnitude of the dumping margins likely to prevail would be weighted-average margins up to: 132.63 percent for China; 50.55 percent for India; 12.32 percent for Canada; 10.26 percent for Greece; 20.39 percent for Korea; and 2.57 percent for Türkiye.⁷

⁷ Id.

Administrative Protective Order

This notice serves as the only reminder to parties subject to administrative protective order (APO) of their responsibility concerning the return/destruction or conversion to judicial protective order of proprietary information disclosed under APO in accordance with 19 CFR 351.305. Timely notification of the return or destruction of APO materials or conversion to judicial protective order is hereby requested. Failure to comply with the regulations and terms of an APO is a violation which is subject to sanction.

Notification to Interested Parties

We are issuing and publishing the results in accordance with sections 751(c), 752(c), and 771(i)(1) of the Act and 19 CFR 351.218.

Dated: May 31, 2024.
Abdelali Elouaradia,
Deputy Assistant Secretary for Enforcement and Compliance.

Appendix

List of Topics Discussed in the Issues and Decision Memorandum

I. Summary

II. Background

III. Scope of the Orders

IV. History of the Orders

V. Legal Framework

VI. Discussion of the Issues

1. Likelihood of Continuation or Recurrence of Dumping

2. Magnitude of the Margins of Dumping Likely to Prevail

VII. Final Results of Sunset Reviews

VIII. Recommendation

[FR Doc. 2024-12514 Filed 6-6-24; 8:45 am]

BILLING CODE 3510-DS-P